DEPARTMENT OF COMMERCE

Foreign-Trade Zones Board

[S-39-2022]

Approval of Subzone Status, GHSP Inc., Grand Haven, Hart and Holland, Michigan

On March 25, 2022, the Executive Secretary of the Foreign-Trade Zones (FTZ) Board docketed an application submitted by the KOM Foreign Trade Zone Authority, grantee of FTZ 189, requesting subzone status subject to the existing activation limit of FTZ 189, on behalf of GHSP Inc., in Grand Haven, Hart and Holland, Michigan.

The application was processed in accordance with the FTZ Act and Regulations, including notice in the Federal Register inviting public comment (87 FR 18765, March 31, 2022). The FTZ staff examiner reviewed the application and determined that it meets the criteria for approval. Pursuant to the authority delegated to the FTZ Board Executive Secretary (15 CFR 400.36(f)), the application to establish Subzone 189F was approved on May 26, 2022, subject to the FTZ Act and the Board's regulations, including Section 400.13, and further subject to FTZ 189's 2,000-acre activation limit.

Dated: May 26, 2022.
Andrew McGilvray,
Executive Secretary.

[FR Doc. 2022-11865 Filed 6-2-22; 8:45 am]

BILLING CODE 3510-DS-P